DEPARTMENT OF TRANSPORTATION

Federal Aviation Administration

14 CFR Part 71

[Docket No. FAA-2005-21703; Airspace Docket No. 05-ACE-19]

Modification of Class D and Class E Airspace; Topeka, Forbes Field, KS

Correction

In rule document 05-20179 appearing on page 58607 in the issue of Friday, October 7, 2005, make the following correction:

In the second column, the CFR heading is corrected to read as set forth above.

[FR Doc. C5-20179 Filed 10-13-05; 8:45 am]

BILLING CODE 1505-01-D

DEPARTMENT OF THE TREASURY

Internal Revenue Service

26 CFR Part 1

[TD 9225]

RIN 1545-BD53

Corporate Reorganizations; Guidance on the Measurement of Continuity of Interest

Correction

In rule document 05-18263 beginning on page 54631 in the issue of Friday, September 16, 2005, make the following correction:

PART 1—[CORRECTED]

On page 54634, ÿ7Eunder PART 1—INCOME TAXES, in the second column, in amendatory instruction 11, in the second line, “where the language” should read “remove the language”.

[FR Doc. C5-18263 Filed 10-13-05; 8:45 am]

BILLING CODE 1505-01-D